DEPARTMENT OF HEALTH AND HUMAN SERVICES

National Institutes of Health

National Center for Complementary and Alternative Medicine Announcement of Draft 5-Year Strategic Plan

ACTION: Notice.

SUMMARY: The National Center for Complementary and Alternative Medicine (NCCAM) is developing its 5-year strategic plan (2005-2009), and invites the public to provide comments on a draft of this plan. The draft plan will be publicly available through the NCCAM Web site at http://nccam.nih.gov from on or about October 4 through November 15, 2004. The public is invited to provide comments through the mail and via the NCCAM Web site.

Background

The National Center for Complementary and Alternative Medicine (NCCAM) was established in 1998 with the mission of exploring complementary and alternative healing practices in the context of rigorous science, training CAM researchers, and disseminating authoritative information to the public and professionals.

To date, NCCAM's efforts to rigorously study CAM, to train CAM researchers, to conduct outreach, and to facilitate integration have been guided by NCCAM's current strategic plan, “Expanding Horizons of Healthcare: Five Year Strategic Plan 2001-2005” located on the NCCAM Web site at http://nccam.nih.gov/about/plans/fiveyear/index.htm. Since its inception, NCCAM has funded over 800 research projects and has over 700 grantee publications.

NCCAM's new strategic plan will stipulate strategic goals and will outline a research agenda for CAM domains and scientific areas, based on identified needs and opportunities.

The public is invited to review the draft strategic plan and provide comments from October 4 through November 15, 2004. The draft plan may be viewed at http://nccam.nih.gov/. Hard copies of the plan may be obtained by calling 1-888-644-6226 or by e-mailing to info@nccam.nih.gov.

Request for Comments

The public is invited to provide comments on the draft strategic plan for 2005-2009. Comments may be provided through the NCCAM Web site at http://nccam.nih.gov or via U.S. mail to: Strategic Plan Feedback, National Center for Complementary and Alternative Medicine, NIH, 31 Center Drive, MSC 2182, Bethesda, MD 20892-2182.

FOR FURTHER INFORMATION: To request more information, visit the NCCAM Web site at http://nccam.nih.gov, call 1-888-644-6226, or e-mail info@nccam.nih.gov.

Comments Due Date

Comments regarding the draft of NCCAM's strategic plan are best assured of having their full effect if received by November 15, 2004.

Dated: September 15, 2004.
Christy Thomsen,
Director, Office of Communications and Public Liaison, National Center for Complementary and Alternative Medicine, National Institutes of Health.

[FR Doc. 04-21427 Filed 9-23-04; 8:45 am]

BILLING CODE 4140-01-P